DEPARTMENT OF HOMELAND SECURITY

[Docket No. DHS-2006-0073]

Notice to Agricultural Facilities About Requirement To Complete Chemical Security Assessment Tool Top-Screen

AGENCY: Department of Homeland Security.

ACTION: Notice.

SUMMARY: The Department of Homeland Security (DHS or Department) is publishing a letter that it issued on December 21, 2007. Through this letter, the Department is granting a time extension for farmers and other agricultural users who are required to submit information (known as the Chemical Security Assessment Tool Top-Screen) under federal chemical security regulations.

DATES: Effective December 21, 2007.

FOR FURTHER INFORMATION CONTACT: Dennis Deziel, Chemical Security Compliance Division, Department of Homeland Security, 703-235-5263.

SUPPLEMENTARY INFORMATION: Section 550 of the Homeland Security Appropriations Act of 2007 provided the Department of Homeland Security (DHS or Department) with authority to promulgate “interim final regulations” for the security of certain chemical facilities in the United States. See Pub. L. 109-295, sec. 550. On December 28, 2006, the Department issued an Advance Notice of Rulemaking seeking comment on the significant issues and regulatory text (see 71 FR 78276), and on April 9, 2007, the Department published an Interim Final Rule establishing anti-terrorism standards for certain chemical facilities (see 72 FR 17688). The Interim Final Rule was effective June 8, 2007.

On November 20, 2007, the Department issued a Final Rule for Appendix A to the Chemical Facility Anti-Terrorism Standards (see 72 FR 65396). Appendix A to 6 CFR Part 27 consists of a List of Chemicals of Interest (COI) and Screening Threshold Quantities (STQs) for each chemical. Any facility that possesses or later comes into possession of any listed COI at or above the STQ must complete and submit a Chemical Security Assessment Tool Top-Screen to DHS.

This letter grants a time extension, as specified, to farmers and other agricultural users of COI for submitting Top-Screens to DHS. On December 21, 2007, the Department issued this letter to various interested parties. For purposes of clarification, this time extension does not apply to agricultural facilities that are required to submit a Top-Screen, because they possess a COI (e.g., propane) at or above the applicable STQ for use as a fuel (e.g., for heating) at such facilities.

Dear Sir or Madam:

I am writing to notify you that the Department of Homeland Security (DHS) is granting a time extension for certain facilities required to submit information under federal chemical security regulations. On April 9, 2007, DHS published the Chemical Facility Anti-Terrorism Standards Interim Final Rule (6 CFR Part 27); and on November 20, 2007, DHS published a final list of chemicals of interest, known as Appendix A. See 72 FR 17688 and 72 FR 65396. With the publication of the final Appendix A, all provisions of the regulations are in effect.

Upon publication of Appendix A, any facility that possesses any chemical of interest at or above the screening threshold quantity specified in Appendix A, was required to complete and submit information—called a “Top-Screen”—to DHS by January 22, 2008. See 6 CFR §§ 27.200(b)(2), 27.210(a)(1)(i).

In the final Appendix A, DHS intended to limit the coverage of that requirement, as related to farmers and other agricultural users of the chemicals of interest, by revising screening thresholds and counting rules for certain chemicals. See 72 FR 65406-65407, 65415 (Nov. 20, 2007). Since publication of the final Appendix A, however, additional questions and concerns have been raised regarding the applicability of the Top-Screen requirement to agricultural facilities and operations. DHS is gathering more information about these issues in order to determine whether any modification of the Top-Screen requirements might be warranted.

In addition, the United States Congress has now passed, and the President has signed, the Department of Homeland Security Appropriations Act of 2008, which authorizes DHS to regulate the sale and transfer of Ammonium Nitrate. The law authorizes DHS to develop processes for the registration of Ammonium Nitrate purchasers and for the maintenance of relevant records. Because this law will likely cover many farmers and other agricultural operations, DHS may review its approach towards Chemicals of Interest used in agricultural operations.

Accordingly, given the nature of these agricultural operations and the circumstances described above, I am exercising my authority under 6 CFR 27.210(c) to extend the deadline for submitting Top-Screens under the following conditions:

(1) Until further notice, or unless otherwise specifically notified in writing by DHS, the Top-Screens will not be required for any facility that is required to submit a Top-Screen solely because it possesses any Chemical of Interest, at or above the applicable screening threshold quantity, for use—

(a) in preparation for the treatment of crops, feed, land, livestock (including poultry) or other areas of an agricultural production facility; or

(b) during application to or treatment of crops, feed, land, livestock (including poultry) or other areas of an agricultural production facility;

(2) This extension applies to facilities such as farms (e.g., crop, fruit, nut, and vegetable); ranches and rangeland; poultry, dairy, and equine facilities; turfgrass growers; golf courses; nurseries; floricultural operations; and public and private parks.

(3) This extension does not apply to chemical distribution facilities, or commercial chemical application services.

If you have any questions about the extension described above, please contact Dennis Deziel, Deputy Director, DHS Compliance Security Compliance Division (dennis.deziel@dhs.gov) or the CSAT Helpdesk at 866-323-2957 or csat.dhs.gov.

Robert B. Stephan,
Assistant Secretary for Infrastructure Protection, Department of Homeland Security.

[FR Doc. E8-199 Filed 1-8-08; 8:45 am]

BILLING CODE 4410-10-P